SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: July 1, 2011, through July 31, 2011.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. XTO Energy Incorporated, Pad ID: Spiece Unit A, ABR-201107001, Jackson Township, Columbia County, Pa.; Consumptive Use of up to 4.000 mgd; Approval Date: July 1, 2011.

2. Chesapeake Appalachia, LLC, Pad ID: Belawske, ABR-201107002, Burlington Borough, Bradford County, Pa.; Consumptive Use of up to 7.500 mgd; Approval Date: July 5, 2011.

3. Chesapeake Appalachia, LLC, Pad ID: SJW, ABR-201107003, Wilmot Township, Bradford County, Pa.; Consumptive Use of up to 7.500 mgd; Approval Date: July 5, 2011.

4. Chesapeake Appalachia, LLC, Pad ID: ACW, ABR-201107004, Leroy Township, Bradford County, Pa.; Consumptive Use of up to 7.500 mgd; Approval Date: July 5, 2011.

5. Seneca Resources Corporation, Pad ID: DCNR 595 Pad I 1V, ABR-201107005, Bloss Township, Tioga County, Pa.; Consumptive Use of up to 4.000 mgd; Approval Date: July 5, 2011.

6. Seneca Resources Corporation, Pad ID: DCNR 007 Pad G 10V, ABR-201107006, Shippen Township, Tioga County, Pa.; Consumptive Use of up to 4.000 mgd; Approval Date: July 5, 2011.

7. Seneca Resources Corporation, Pad ID: DCNR 100 Pad D 85V, ABR-201107007, McIntyre Township, Lycoming County, Pa.; Consumptive Use of up to 4.000 mgd; Approval Date: July 5, 2011.

8. Penn Virginia Oil & Gas Corporation, Pad ID: Godshall B Pad, ABR-201107008, Hector Township, Potter County, Pa.; Consumptive Use of up to 4.500 mgd; Approval Date: July 5, 2011.

9. EXCO Resources (PA), LLC, Pad ID: Houseknecht Drilling Pad #1, ABR-201012014.1, Davidson Township, Sullivan County, Pa.; Consumptive Use of up to 8.000 mgd; Approval Date: July 5, 2011.

10. EXCO Resources (PA), LLC, Pad ID: Kensinger 3H Drilling Pad #1, ABR-20100205.1, Penn Township, Lycoming County, Pa.; Consumptive Use of up to 8.000 mgd; Approval Date: July 5, 2011.

11. Energy Corporation of America, Pad ID: Whitetail #1-5MH, ABR-201008112.1, Goshen and Girard Townships, Clearfield County, Pa.; Consumptive Use of up to 5.000 mgd; Approval Date: July 5, 2011.

12. Energy Corporation of America, Pad ID: Coldstream Affiliates #1MH, ABR-201007051.1, Goshen Township, Clearfield County, Pa.; Consumptive Use of up to 5.000 mgd; Approval Date: July 5, 2011.

13. Carrizo Marcellus, LLC, Pad ID: Erickson Family Trust Pad, ABR-201107009, Woodward Township, Clearfield County, Pa.; Consumptive Use of up to 2.100 mgd; Approval Date: July 6, 2011.

14. Carrizo Marcellus, LLC, Pad ID: Cowfer B (CC-09) Pad, ABR-201107010, Gulich Township, Clearfield County, Pa.; Consumptive Use of up to 2.100 mgd; Approval Date: July 6, 2011.

15. Carrizo Marcellus, LLC, Pad ID: Giangrieco Pad, ABR-201107011, Forest Lake Township, Susquehanna County, Pa.; Consumptive Use of up to 2.100 mgd; Approval Date: July 6, 2011.

16. Carrizo Marcellus, LLC, Pad ID: Steinman Development Co. (CC-11) Pad, ABR-201107012, Rush Township, Centre County, Pa.; Consumptive Use of up to 2.100 mgd; Approval Date: July 6, 2011.

17. Carrizo Marcellus, LLC, Pad ID: Hegarty (CC-04) Pad, ABR-201107013, Beccaria Township, Clearfield County, Pa.; Consumptive Use of up to 2.100 mgd; Approval Date: July 6, 2011.

18. Carrizo Marcellus, LLC, Pad ID: River Hill Power Karthaus Pad, ABR-201107014, Karthaus Township, Clearfield County, Pa.; Consumptive Use of up to 2.100 mgd; Approval Date: July 6, 2011.

19. Carrizo Marcellus, LLC, Pad ID: EP Bender B (CC-03) Pad, ABR-201107015, Reade Township, Cambria County, Pa.; Consumptive Use of up to 2.100 mgd; Approval Date: July 6, 2011.

20. EXCO Resources (PA), LLC, Pad ID: Dale Bower Drilling Pad #1, ABR-20100214.1, Penn Township, Lycoming County, Pa.; Consumptive Use of up to 8.000 mgd; Approval Date: July 8, 2011.

21. XTO Energy Incorporated, Pad ID: Raymond Unit A, ABR-201107016, Pine Township, Columbia County, Pa.; Consumptive Use of up to 4.000 mgd; Approval Date: July 8, 2011.

22. XTO Energy Incorporated, Pad ID: TLT Unit A, ABR-201107017, Jordan Township, Lycoming County, Pa.; Consumptive Use of up to 4.000 mgd; Approval Date: July 8, 2011.

23. EOG Resources, Inc., Pad ID: HOUSER 1H Pad, ABR-201107018, Burlington Township, Bradford County, Pa.; Consumptive Use of up to 4.999 mgd; Approval Date: July 8, 2011.

24. EOG Resources, Inc., Pad ID: FAY 1H Pad, ABR-201107019, Ridgebury Township, Bradford County, Pa.; Consumptive Use of up to 4.999 mgd; Approval Date: July 8, 2011.

25. EOG Resources, Inc., Pad ID: NICHOLS 2H Pad, ABR-201107020, Smithfield Township, Bradford County, Pa.; Consumptive Use of up to 4.999 mgd; Approval Date: July 8, 2011.

26. EOG Resources, Inc., Pad ID: STAHL 1H Pad, ABR-201107021, Smithfield Township, Bradford County, Pa.; Consumptive Use of up to 4.999 mgd; Approval Date: July 8, 2011.

27. EOG Resources, Inc., Pad ID: HOLCOMBE 1H Pad, ABR-201107022, Smithfield Township, Bradford County, Pa.; Consumptive Use of up to 4.999 mgd; Approval Date: July 8, 2011.

28. EOG Resources, Inc., Pad ID: CRANE Pad, ABR-201107023, Smithfield Township, Bradford County, Pa.; Consumptive Use of up to 4.999 mgd; Approval Date: July 8, 2011.

29. XTO Energy Incorporated, Pad ID: Free Library Unit E, ABR-201107024, Beech Creek Township, Clinton County, Pa.; Consumptive Use of up to 4.000 mgd; Approval Date: July 11, 2011.

30. Penn Virginia Oil & Gas Corporation, Pad ID: Original Ten Pad, ABR-201107025, Hector Township, Potter County, Pa.; Consumptive Use of up to 4.500 mgd; Approval Date: July 11, 2011.

31. Penn Virginia Oil & Gas Corporation, Pad ID: Godshall A Pad, ABR-201107026, Hector Township, Potter County, Pa.; Consumptive Use of up to 4.500 mgd; Approval Date: July 11, 2011.

32. Seneca Resources Corporation, Pad ID: DCNR 007 Pad T 20V, ABR-201107027, Gaines Township, Tioga County, Pa.; Consumptive Use of up to 4.000 mgd; Approval Date: July 11, 2011.

33. EXCO Resources (PA), LLC, Pad ID: Doebler Drilling Pad #1, ABR-201012033.1, Penn Township, Lycoming County, Pa.; Consumptive Use of up to 8.000 mgd; Approval Date: July 11, 2011.

34. Chief Oil & Gas LLC, Pad ID: Kuziak Drilling Pad #1, ABR-201107028, Fox Township, Sullivan County, Pa.; Consumptive Use of up to 2.000 mgd; Approval Date: July 12, 2011.

35. Cabot Oil & Gas Corporation, Pad ID: VandermarkR P1, ABR-201107029, Dimock Township, Susquehanna County, Pa.; Consumptive Use of up to 3.575 mgd; Approval Date: July 12, 2011.

36. Anadarko E&P Company LP, Pad ID: COP Tract 027B Pad A, ABR-201107030, McHenry Township, Lycoming County, Pa.; Consumptive Use of up to 4.000 mgd; Approval Date: July 14, 2011.

37. Seneca Resources Corporation, Pad ID: DCNR 007 Pad D 11V, ABR-201107031, Delmar Township, Tioga County, Pa.; Consumptive Use of up to 4.000 mgd; Approval Date: July 15, 2011.

38. Seneca Resources Corporation, Pad ID: Rich Valley Pad E, ABR-201107032, Shippen Township, Cameron County, Pa.; Consumptive Use of up to 4.000 mgd; Approval Date: July 15, 2011.

39. Seneca Resources Corporation, Pad ID: DCNR 595 Pad G, ABR-201107033, Blossburg Borough, Tioga County, Pa.; Consumptive Use of up to 4.000 mgd; Approval Date: July 15, 2011.

40. Seneca Resources Corporation, Pad ID: DCNR 007 Pad H 12V, ABR-201107034, Delmar Township, Tioga County, Pa.; Consumptive Use of up to 4.000 mgd; Approval Date: July 15, 2011.

41. Seneca Resources Corporation, Pad ID: DCNR 100 Pad B, ABR-201107035, McIntyre Township, Lycoming County, Pa.; Consumptive Use of up to 4.000 mgd; Approval Date: July 15, 2011.

42. Chesapeake Appalachia, LLC, Pad ID: Layton, ABR-201107036, Litchfield Township, Bradford County, Pa.; Consumptive Use of up to 7.500 mgd; Approval Date: July 15, 2011.

43. Chesapeake Appalachia, LLC, Pad ID: Oilcan, ABR-201107037, Overton Township, Bradford County, Pa.; Consumptive Use of up to 7.500 mgd; Approval Date: July 15, 2011.

44. Chesapeake Appalachia, LLC, Pad ID: Burns, ABR-201107038, Ulster Township, Bradford County, Pa.; Consumptive Use of up to 7.500 mgd; Approval Date: July 15, 2011.

45. EQT Production Company, Pad ID: Gobbler, ABR-201107039, Huston Township, Clearfield County, Pa.; Consumptive Use of up to 3.000 mgd; Approval Date: July 15, 2011.

46. EQT Production Company, Pad ID: Turkey, ABR-201107040, Huston Township, Clearfield County, Pa.; Consumptive Use of up to 3.000 mgd; Approval Date: July 15, 2011.

47. EXCO Resources (PA), LLC, Pad ID: Niedzwiecki Drilling Pad #1, ABR-201012025.1, Sugarloaf Township, Columbia County, Pa.; Consumptive Use of up to 8.000 mgd; Approval Date: July 18, 2011.

48. XTO Energy Incorporated, Pad ID: Buck Unit A, ABR-201107041, Penn Township, Lycoming County, Pa.; Consumptive Use of up to 4.000 mgd; Approval Date: July 21, 2011.

49. Anadarko E&P Company LP, Pad ID: COP Tr 285 Pad E, ABR-201007074.1, Grugan Township, Clinton County, Pa.; Consumptive Use of up to 4.000 mgd; Approval Date: July 26, 2011.

50. Anadarko E&P Company LP, Pad ID: COP Tr 290 Pad A, ABR-201009043.1, McHenry Township, Lycoming County, Pa.; Consumptive Use of up to 4.000 mgd; Approval Date: July 26, 2011.

51. Anadarko E&P Company LP, Pad ID: COP Tr 289 Pad D, ABR-201008030.1, McHenry Township, Lycoming County, Pa.; Consumptive Use of up to 4.000 mgd; Approval Date: July 26, 2011.

52. Southwestern Energy Production Company, Pad ID: Van Order Pad, ABR-201107042, Herrick Township, Bradford County, Pa.; Consumptive Use of up to 4.990 mgd; Approval Date: July 26, 2011.

53. Southwestern Energy Production Company, Pad ID: Clark Pad, ABR-201107043, Orwell Township, Bradford County, Pa.; Consumptive Use of up to 4.990 mgd; Approval Date: July 26, 2011.

54. Southwestern Energy Production Company, Pad ID: Lyncott Corp Pad, ABR-201107044, New Milford Township, Susquehanna County, Pa.; Consumptive Use of up to 4.990 mgd; Approval Date: July 26, 2011.

55. Southwestern Energy Production Company, Pad ID: Bark'em Squirrel Pad, ABR-201107045, New Milford Township, Susquehanna County, Pa.; Consumptive Use of up to 4.990 mgd; Approval Date: July 26, 2011.

56. Pennsylvania General Energy Co., LLC, Pad ID: COP Tract 729 Pad E, ABR-201107046, Cummings Township, Lycoming County, Pa.; Consumptive Use of up to 3.500 mgd; Approval Date: July 26, 2011.

57. Chesapeake Appalachia, LLC, Pad ID: Fisher, ABR-201107047, Wysox Township, Bradford County, Pa.; Consumptive Use of up to 7.500 mgd; Approval Date: July 26, 2011.

58. Chesapeake Appalachia, LLC, Pad ID: Paul, ABR-201107048, Ulster Township, Bradford County, Pa.; Consumptive Use of up to 7.500 mgd; Approval Date: July 26, 2011.

59. Talisman Energy USA Inc., Pad ID: 05 164 Bennett, ABR-201107049, Pike Township, Bradford County, Pa.; Consumptive Use of up to 6.000 mgd; Approval Date: July 26, 2011.

60. Talisman Energy USA Inc., Pad ID: 02 153 Mountain Run Hunting Club, ABR-201107050, Union Township, Tioga County, Pa.; Consumptive Use of up to 6.000 mgd; Approval Date: July 26, 2011.

61. Cabot Oil & Gas Corporation, Pad ID: Dobrosielski P1, ABR-201107051, Auburn Township, Susquehanna County, Pa.; Consumptive Use of up to 3.575 mgd; Approval Date: July 26, 2011.

62. Southwestern Energy Production Company, Pad ID: Bernstein Pad, ABR-201107052, Clifford Township, Susquehanna County, Pa.; Consumptive Use of up to 4.990 mgd; Approval Date: July 26, 2011.

Authority: Pub. L. 91-575, 84 Stat. 1509 et seq., 18 CFR parts 806, 807, and 808.

Dated: August 17, 2011.
Stephanie L. Richardson,
Secretary to the Commission.

[FR Doc. 2011-21781 Filed 8-25-11; 8:45 am]

BILLING CODE 7040-01-P